DEPARTMENT OF DEFENSE

Department of the Army

Availability of Patent Application for Exclusive License

AGENCY: U.S. Army, DoD.

ACTION: Notice.

SUMMARY: The Department of the Army announces the general availability of exclusive, partially exclusive, or nonexclusive licenses under the following patents that are listed in the SUPPLEMENTARY INFORMATION paragraph.

FOR FURTHER INFORMATION CONTACT: Mr. Robert Rosenkrans at U.S. Army Soldier and Biological Chemical Command, Kansas Street, Natick, MA 01760; Phone: (508) 233-4928 or E-mail: Robert.Rosenkrans@natick.army.mil.

SUPPLEMENTARY INFORMATION: Any licenses granted shall comply with 35 U.S.C. 209 and 37 CFR part 404. The following Patent Application Number, Title and Filing date is provided:

Patent Application Number: 09/334,981.

Title: Harness for Human Wear.

Filing Date: June 17, 1999.

Australian Patent Application Number: 199672359.

Title: Interlock Attaching Strap System.

Filing Date: September 5, 1996.

Gregory D. Showalter,
Army Federal Register Liaison Officer.

[FR Doc. 01-7258 Filed 3-22-01; 8:45 am]

BILLING CODE 3710-08-P